DEPARTMENT OF ENERGY

Federal Energy Regulatory Commission

[Docket No. RP10-841-000]

Northern Natural Gas Company; Notice of Technical Conference

July 20, 2010.

By order dated July 9, 2010 ¹ the Federal Energy Regulatory Commission (Commission) ordered a technical conference in the captioned proceeding (July 9, 2010 Order). The conference will be held on Thursday, August 19, 2010 at the Commission's headquarters at 888 First Street, Washington, DC 20426, beginning at 9 a.m. in a room to be identified. The conference will address matters of the resale of market-based storage and capacity release discussed in the July 9, 2010 Order.

¹ Northern Natural Gas Company, 132 FERC ¶ 61,021 (2010).

FERC conferences are accessible under section 508 of the Rehabilitation Act of 1973. For accessibility accommodations please send an e-mail to accessibility@ferc.gov or call toll free 1-866-208-3372 (voice) or 202-208-8659 (TTY); or send a Fax to 202-208-2106 with the required accommodations. For further information contact John M. Robinson at 202-502-6808 or William Howard at 202-502-8239.

Nathaniel J. Davis, Sr.,
Deputy Secretary.

[FR Doc. 2010-18596 Filed 7-28-10; 8:45 am]

BILLING CODE 6717-01-P